DEPARTMENT OF ENERGY

Federal Energy Regulatory Commission

Combined Notice of Filings #1

Take notice that the Commission received the following electric corporate filings:

Docket Numbers: EC13-25-000.

Applicants: Lord, Abbett & Co. LLC.

Description: Request for Reauthorization and Extension of Blanket Authorizations to Acquire and Dispose of Securities Under Section 203 of the Federal Power Act of Lord, Abbett & Co. LLC.

Filed Date: 10/26/12.

Accession Number: 20121026-5225.

Comments Due: 5 p.m. ET 11/16/12.

Take notice that the Commission received the following electric rate filings:.

Docket Numbers: ER10-1987-001.

Applicants: Ontario Power Generation Energy Trading, Inc.

Description: Notice of Non-Material Change in Status of Ontario Power Generation Energy Trading, Inc.

Filed Date: 10/26/2012.

Accession Number: 20121026-5220.

Comments Due: 5 p.m. ET 11/16/12.

Docket Numbers: ER10-2507-002.

Applicants: Westar Energy, Inc.

Description: Amended Non-Material Change in Status Notice of Westar Energy, Inc.

Filed Date: 10/29/12.

Accession Number: 20121029-5119.

Comments Due: 5 p.m. ET 11/19/12.

Docket Numbers: ER10-2507-003.

Applicants: Westar Energy, Inc.

Description: Notice of Non-Material Change in Status of Westar Energy, Inc.

Filed Date: 10/29/12.

Accession Number: 20121029-5118.

Comments Due: 5 p.m. ET 11/19/12.

Docket Numbers: ER10-2794-004; ER11-2028-004; ER10-2849-003; ER12-1825-005.

Applicants: EDF Trading North America, LLC, EDF Industrial Power Services (IL), LLC, EDF Industrial Power Services (NY), LLC, EDF Industrial Power Services (CA), LLC.

Description: Updated Market Power Analysis for the Central Region on behalf of EDF Trading North America, LLC, et al.

Filed Date: 10/26/12.

Accession Number: 20121026-5226.

Comments Due: 5 p.m. ET 11/16/12.

Docket Numbers: ER10-2985-007; ER10-3049-008; ER10-3051-008.

Applicants: Champion Energy Marketing LLC, Champion Energy Services, LLC, Champion Energy, LLC.

Description: Notice of Non-Material Change in Status of Champion Energy Marketing LLC, et al.

Filed Date: 10/29/12.

Accession Number: 20121029-5116.

Comments Due: 5 p.m. ET 11/19/12.

Docket Numbers: ER12-718-002.

Applicants: New York Independent System Operator, Inc., PJM Interconnection, L.L.C.

Description: NYISO PJM Joint Market to Market Compliance—Michigan Ontario PARs to be effective 1/15/2013.

Filed Date: 10/22/12.

Accession Number: 20121022-5101.

Comments Due: 5 p.m. ET 11/13/12.

Docket Numbers: ER12-2380-001.

Applicants: Midwest Independent Transmission System Operator, Inc.

Description: 10-29-12 Compliance Filing to be effective 10/1/2012.

Filed Date: 10/30/12.

Accession Number: 20121030-5001.

Comments Due: 5 p.m. ET 11/20/12.

Docket Numbers: ER12-2508-001.

Applicants: PacifiCorp.

Description: OATT Revised Section 14 Compliance Filing to be effective 10/23/2012.

Filed Date: 10/29/12.

Accession Number: 20121029-5008.

Comments Due: 5 p.m. ET 11/19/12.

Docket Numbers: ER13-55-001.

Applicants: Homer City Generation, L.P.

Description: Supplement to MBR Tariff to be effective 10/26/2012.

Filed Date: 10/26/12.

Accession Number: 20121026-5197.

Comments Due: 5 p.m. ET 11/9/12.

Docket Numbers: ER13-218-000.

Applicants: California Independent System Operator Corporation.

Description: 2012-10-26 Amendment re Downsizing Opportunity for Generator Projects to be effective 1/1/2013.

Filed Date: 10/29/12.

Accession Number: 20121029-5000.

Comments Due: 5 p.m. ET 11/19/12.

Docket Numbers: ER13-219-000.

Applicants: California Independent System Operator Corporation.

Description: 2012-10-29 Tariff Amendment to Allow Recovery of Greenhouse Gas Compliance Costs to be effective 1/1/2013.

Filed Date: 10/29/12.

Accession Number: 20121029-5014.

Comments Due: 5 p.m. ET 11/19/12.

Docket Numbers: ER13-220-000.

Applicants: Southern California Edison Company.

Description: SGIA with RE Rosamond Two LLC—Rosamond Two Project to be effective 10/30/2012.

Filed Date: 10/29/12.

Accession Number: 20121029-5015.

Comments Due: 5 p.m. ET 11/19/12.

Docket Numbers: ER13-221-000.

Applicants: Southwestern Public Service Company.

Description: 2012-10-30-GSEC-LCEC-Amherst-CA-656-0.0.0 to be effective 10/31/2012.

Filed Date: 10/30/12.

Accession Number: 20121030-5016.

Comments Due: 5 p.m. ET 11/20/12.

Docket Numbers: ER13-222-000.

Applicants: Citizens Sunrise Transmission LLC.

Description: Annual TRBAA Filing to be effective 1/1/2013.

Filed Date: 10/30/12.

Accession Number: 20121030-5017.

Comments Due: 5 p.m. ET 11/20/12.

Docket Numbers: ER13-223-000.

Applicants: Arizona Public Service Company.

Description: Cancellation of Rate Schedule No. 253-Phase I of WAPA Bouse Construction AG to be effective 12/30/2012.

Filed Date: 10/30/12.

Accession Number: 20121030-5029.

Comments Due: 5 p.m. ET 11/20/12.

Docket Numbers: ER13-224-000.

Applicants: California Independent System Operator Corporation.

Description: 2012-10-30 Filing of Rate Schedule 72 and Termination of Rate Schedule 40 to be effective 1/3/2013.

Filed Date: 10/30/12.

Accession Number: 20121030-5100.

Comments Due: 5 p.m. ET 11/20/12.

Docket Numbers: ER13-225-000.

Applicants: Nevada Power Company.

Description: Rate Schedule No. 120 Second Amended_ Restated Transmission Interconnection Agm-VEA to be effective 1/3/2013.

Filed Date: 10/30/12.

Accession Number: 20121030-5124.

Comments Due: 5 p.m. ET 11/20/12.

Take notice that the Commission received the following electric securities filings:.

Docket Numbers: ES13-4-000.

Applicants: Baltimore Gas and Electric Company.

Description: Application of Baltimore Gas and Electric Company for Short Term Borrowing Authority.

Filed Date: 10/26/12.

Accession Number: 20121026-5224.

Comments Due: 5 p.m. ET 11/16/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 31, 2012.
Nathaniel J. Davis, Sr.,
Deputy Secretary.

[FR Doc. 2012-27154 Filed 11-6-12; 8:45 am]

BILLING CODE 6717-01-P